FEDERAL RESERVE SYSTEM

Change in Bank Control Notices; Acquisitions of Shares of a Bank or Bank Holding Company

The notificants listed below have applied under the Change in Bank Control Act (12 U.S.C. 1817(j)) and § 225.41 of the Board's Regulation Y (12 CFR 225.41) to acquire shares of a bank or bank holding company. The factors that are considered in acting on the notices are set forth in paragraph 7 of the Act (12 U.S.C. 1817(j)(7)).

The notices are available for immediate inspection at the Federal Reserve Bank indicated. The notices also will be available for inspection at the offices of the Board of Governors. Interested persons may express their views in writing to the Reserve Bank indicated for that notice or to the offices of the Board of Governors. Comments must be received not later than May 12, 2017.

A. Federal Reserve Bank of Chicago (Colette A. Fried, Assistant Vice President) 230 South LaSalle Street, Chicago, Illinois 60690-1414:

1. William M. Parks and Ruth M. Parks, individually, and as co-trustees of the Ann F. Parks Special Trust Number One, Muscatine, Iowa; Ann F. Parks Special Trust Number One, individually, Muscatine, Iowa; Carrie A. Zorich, Daniel P. Stein, and Timothy J. Stein, all individually, and as co-trustees of the Inter Vivos Stock Trust of Simon G. Stein IV FBO James P. Stein, Muscatine, Iowa; Inter Vivos Stock Trust of Simon G. Stein IV FBO James P. Stein, individually, Muscatine, Iowa; Daniel P. Stein as trustee of the Daniel P. Stein Revocable Trust dated October 7, 2008, James P. Stein Trust Number One, and the Inter Vivos Stock Trust of Simon G. Stein IV FBO James P. Stein, Muscatine, Iowa; James P. Stein as trustee of the James P. Stein Revocable Trust dated December 16, 2005 and the Inter Vivos Stock Trust of Simon G. Stein IV FBO James P. Stein, Muscatine, Iowa; Timothy J. Stein as trustee of the Timothy J. Stein Revocable Trust dated August 10, 2012, James P. Stein Trust Number One, and the Inter Vivos Stock Trust of Simon G. Stein IV FBO James P. Stein, Lakeway, Texas; Carrie A. Zorich as trustee of the Carrie A. Zorich Revocable Trust dated July 23, 2007, James P. Stein Trust Number One, and the Inter Vivos Stock Trust of Simon G. Stein IV FBO James P. Stein, Muscatine, Iowa; Maryann Bramhall-Lambert as trustee of the GST Exempt Trust for benefit of James P. Stein Family, Iowa City, Iowa; Ruth M. Parks as trustee of the William M. Parks Family Intergenerational Trust, William M. Parks Family Intergenerational Trust II, John Lee Parks, II Family Intergenerational Trust, and the Ann F. Parks and John L. Parks Intergenerational Trust FBO JLP II; William M. Parks as trustee of the John Lee Parks, II Family Intergenerational Trust and the Ann F. Parks and John L. Parks Intergenerational Trust FBO JLP II; John L. Parks, II as trustee of the Ann F. Parks and John L. Parks Intergenerational Trust FBO WMP; GST Exempt Trust for benefit of James P. Stein Family, Muscatine, Iowa; Daniel P. Stein Revocable Trust dated October 7, 2008, Muscatine, Iowa; James P. Stein Revocable Trust dated December 16, 2005, Muscatine, Iowa; Timothy J. Stein Revocable Trust dated August 10, 2012, Lakeway, Texas; Carrie A. Zorich Revocable Trust dated July 23, 2007, Muscatine, Iowa; James P. Stein Trust Number One, Muscatine, Iowa; William M. Parks Family Intergenerational Trust, Muscatine, Iowa; William M. Parks Family Intergenerational Trust II, Muscatine, Iowa; John Lee Parks, II Family Intergenerational Trust, Muscatine, Iowa; Ann F. Parks and John L. Parks Intergenerational Trust FBO WMP, Muscatine, Iowa; Ann F. Parks and John L. Parks Intergenerational Trust FBO JLP II, Muscatine, Iowa; Thomas L. Lambert, Iowa City, Iowa; Lambert Farms, LLC, Iowa City, Iowa; in addition to, James P. Stein; Timothy J. Stein; Carrie A. Zorich; Daniel P. Stein; Benjamin L. Parks, Iowa City, Iowa; William M. Parks; and Ruth M. Parks, Muscatine, Iowa, as members of Sawyer Group Family Council which votes and retain voting shares owned by the Ann F. Parks Special Trust Number One; GST Exempt Trust for benefit of James P. Stein Family; Daniel P. Stein Revocable Trust dated October 7, 2008; James P. Stein Revocable Trust dated December 16, 2005; Timothy J. Stein Revocable Trust dated August 10, 2012; Carrie A. Zorich Revocable Trust dated July 23, 2007; James P. Stein Trust Number One; Inter Vivos Stock Trust of Simon G. Stein IV FBO James P. Stein; William M. Parks Family Intergenerational Trust; William M. Parks Family Intergenerational Trust II; John Lee Parks, II Family Intergenerational Trust; Ann F. Parks and John L. Parks Intergenerational Trust FBO WMP; and the Ann F. Parks and John L. Parks Intergenerational Trust FBO JLP II, as a group acting in concert, to retain voting shares of Central Bancshares, Inc. and thereby indirectly retain voting shares of CBI Bank & Trust, Muscatine, Iowa, and The Farmers and Mechanics Bank, Galesburg, Illinois.

Board of Governors of the Federal Reserve System, April 21, 2017.
Michele T. Fennell,
Assistant Secretary of the Board.

[FR Doc. 2017-08425 Filed 4-25-17; 8:45 am]

BILLING CODE 6210-01-P